DEPARTMENT OF COMMERCE

Bureau of Industry and Security

Emerging Technology and Research Advisory Committee; Notice of Open Meeting

The Emerging Technology and Research Advisory Committee (ETRAC) will meet on October 27, 2016, 8:30 a.m., Room 3884, at the Herbert C. Hoover Building, 14th Street between Pennsylvania and Constitution Avenues NW., Washington, DC. The Committee advises the Office of the Assistant Secretary for Export Administration on emerging technology and research activities, including those related to deemed exports.

Agenda

Open Session

1. Welcome and Opening Remarks.

2. Update on Export Control Reform, Bureau of Industry and Security.

3. Issues for discussion: Atom-based sensing; International Summit on Human Gene Editing; Nanotechnology; Advanced Materials; Emerging Technology issues at recent events; State of Emerging Technologies-ETRAC members: Cutting edge technology development; Where and who is doing the research; Potential unclassified applications; and Status of issues at International Control Regimes meetings.

4. Presentation: Emerging Technologies Strategic Studies Quarterly—An Air Force Sponsored Strategic Forum on National and International Security.

5. Presentation: Deemed Export Control Interactive Tool Demonstration

6. Review of Research: Emerging Technologies being conducted by U.S. Army as presented at Association of the U.S. Army Annual Conference October 3-5, 2016.

7. Comments from the Public.

The open sessions will be accessible via teleconference to 25 participants on a first come, first serve basis. To join the conference, submit inquiries to Ms. Yvette Springer at Yvette.Springer@bis.doc.gov no later than, October 20, 2016.

A limited number of seats will be available for the public session. Reservations are not accepted. To the extent that time permits, members of the public may present oral statements to the Committee. The public may submit written statements at any time before or after the meeting. However, to facilitate the distribution of public presentation materials to the Committee members, the Committee suggests that presenters forward the public presentation materials prior to the meeting to Ms. Springer via email.

For more information, call Yvette Springer at (202) 482-2813.

Dated: October 4, 2016.
Yvette Springer,
Committee Liaison Officer.

[FR Doc. 2016-24318 Filed 10-6-16; 8:45 am]

BILLING CODE 3510-JT-P